DEPARTMENT OF COMMERCE

National Oceanic and Atmospheric Administration

Agency Information Collection Activities; Submission to the Office of Management and Budget (OMB) for Review and Approval; Comment Request; Mandatory Shrimp Vessel and Gear Characterization Survey

AGENCY: National Oceanic & Atmospheric Administration (NOAA), Commerce.

ACTION: Notice of Information Collection; request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 29, 2022.

ADDRESSES: Interested persons are invited to submit written comments to Adrienne Thomas, NOAA PRA Officer, at noaa.pra@noaa.gov. Please reference OMB Control Number 0648-0542 in the subject line of your comments. Do not submit confidential business information or otherwise sensitive or protected information.

FOR FURTHER INFORMATION CONTACT: Requests for additional information or specific questions related to collection activities should be directed to Rebecca Smith, National Marine Fisheries Service (NMFS), Southeast Fisheries Science Center, Galveston Laboratory, 4700 Avenue U, Bldg. 306, Galveston, TX 77551 (409) 766-3783, rebecca.smith@noaa.gov.

SUPPLEMENTARY INFORMATION:

I. Abstract

This request is for extension of a currently approved information collection. The mandatory vessel and gear characterization survey is a census data collection effort of all shrimp vessel owners or operators who possess a valid Federal Gulf commercial shrimp fishing permit. NMFS began collecting these survey data in 2006 under OMB Control No. 0648-0542 per the final rule implementing Amendment 13 to the Fishery Management Plan for the Shrimp Fishery of the Gulf of Mexico (Amendment 13) (71 FR 56039, September 26, 2006).

NMFS is currently collecting census-level information on fishing vessel and gear characteristics in the Gulf of Mexico (Gulf) commercial shrimp fishery (Gulf shrimp fishery), which operates in the Gulf exclusive economic zone. NMFS uses this information to conduct analyses that improve fishery management decision-making and ensure that national goals, objectives, and requirements of the Magnuson-Stevens Fishery Conservation and Management Act (Magnuson-Stevens Act, 16 U.S.C. 1801 et seq.), National Environmental Policy Act, Regulatory Flexibility Act, Endangered Species Act, and Executive Order 12866 are met; and quantify achievement of the performance measures in the NMFS' Operating Plans. This information is vital in assessing the economic, social, and environmental effects of fishery management decisions and regulations on individual shrimp fishing enterprises, fishing communities, and the Nation as a whole. Recordkeeping requirements for this information collection under the Magnuson-Stevens Act are codified at 50 CFR 622.51(a)(3).

The mandatory vessel and gear characterization survey is a census data collection effort of all shrimp vessel owners or operators who possess a valid federal Gulf commercial shrimp fishing permit. NMFS began collecting these survey data in 2006 under OMB Control No. 0648-0542 per the final rule implementing Amendment 13 to the Fishery Management Plan for the Shrimp Fishery of the Gulf of Mexico (Amendment 13) (71 FR 56039, September 26, 2006).

The vessel and gear survey annually updates existing data and continues data collection efforts for this significant fishery. NMFS currently collects other information from Gulf commercial shrimp vessels pertaining to their fishing activities, trip dates, landings, and other information through port agents, electronic logbooks, and mandatory dealer reports. Prior to this annual survey, little data related to vessel and gear characteristics at the individual vessel level have been collected through other means.

Completion of the annual survey is required for fishermen to renew or transfer a Gulf commercial shrimp permit. NMFS' Southeast Fisheries Science Center (SEFSC) mails the annual survey to all Gulf shrimp permit holders beginning in March each year. Requiring completion of the survey shortly before permit renewal, with renewal contingent upon survey completion,¹ ensures that all permitted fishermen will be included in the census and each fisherman will only be surveyed once per annum.

¹ The Gulf shrimp fishery requires a limited-access federal permit, and there is a moratorium on new federal Gulf shrimp permits until October 26, 2026. If a person buys or transfers a permit on January 1, 2022, before this person's permit can be renewed in 2022, they would have to complete a survey form.

The questions contained on the vessel and gear survey form are needed to collect data as required by regulations implementing Amendment 13. All but Question 1 on the form are focused on activity in the past year. Questions 1-4 ask for year of vessel purchase, by whom the vessel was operated in the past year, number of days at sea and trips taken in the past year and in what areas and fisheries the vessel was operated. Questions 5-11 pertain to the most frequent type of gear used. Questions 12-13 pertain to the most frequently used bycatch reduction devices (BRD). Questions 14-26 pertain to the most frequently used turtle exclusion devices (TED). Question 27 asks for a list of all electronic equipment used on the vessel.

The primary purposes of collecting vessel and gear characterization data at the census level is to develop statistically valid sampling designs for the other aforementioned data collection programs. It is believed that the creation of stratified, random sampling designs for these data collection programs is necessary to ensure that the data, and the estimates of the fishery performance measures based on that data, are accurate (e.g., representative of the fishery's actual performance). The various vessel and gear characteristics serve as strata in these sampling designs.

The information collected by the vessel and gear characterization survey is used by NMFS economists, social scientists, and biologists to help evaluate the performance of existing regulations (e.g., BRDs, TEDs, time or area closures, etc.), and the impacts that changes to those regulations may have on individual fishermen, the shrimp fishing industry as a whole, and fishing communities. In addition, the vessel and gear characterization data are further linked to various biological, social, and economic data collected by other means.

It is anticipated that the information collected will be available to the public through technical memoranda and similar publications, or used to support publicly disseminated information, such as analyses contained within documents distributed by the Gulf of Mexico Fishery Management Council (Council). Data may be reported according to the various types of nets, TEDs, BRDs or electronic equipment that is generally used, which will allow comparisons and evaluations of alternative vessel and gear configurations by analysts and vessel owners.

II. Method of Collection

NMFS mails a paper copy of the forms to respondents and provides a pre-paid business reply envelope for permit applications to submit the form. Permit applicants must complete and mail the form back to NMFS before a permit expires and before NMFS will issue or transfer a permit.

III. Data

OMB Control Number: 0648-0542.

Form Number(s): None.

Type of Review: Regular submission (extension of a currently approved information collection).

Affected Public: Businesses or other for-profit organizations, individuals and households.

Estimated Number of Respondents: 1349.

Estimated Time per Response: 30 minutes.

Estimated Total Annual Burden Hours: 647.5 hours.

Estimated Total Annual Cost to Public: $0 in recordkeeping or reporting costs.

Respondent's Obligation: Mandatory.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-21314 Filed 9-29-22; 8:45 am]

BILLING CODE 3510-22-P